FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 019355F.

Name: ABAD Air, Inc.

Address: 10411 NW 28th Street, Miami, FL 33172.

Date Revoked: June 21, 2009.

Reason: Failed to maintain a valid bond.

License Number: 014597NF.

Name: Airgate International Corporation.

Address: 153-04 Rockaway Blvd., Jamaica, NY 11434.

Date Revoked: June 19, 2009.

Reason: Failed to maintain valid bonds.

License Number: 014945F.

Name: All Freight Services International, Inc.

Address: 701 Waterford Way, Ste. 160, Miami, FL 33126.

Date Revoked: June 12, 2009.

Reason: Surrendered license voluntarily.

License Number: 019674N.

Name: A.M.X. Logistics, Inc.

Address: 145-32 157th Street, Jamaica, NY 11434.

Date Revoked: June 15, 2009.

Reason: Surrendered license voluntarily.

License Number: 019254N.

Name: APL Logistics Hong Kong, Limited.

Address: 1111 Broadway, Oakland, CA 94607-5500.

Date Revoked: June 23, 2009.

Reason: Surrendered license voluntarily.

License Number: 002937F.

Name: Baillie Lumber Co., Inc.

Address: 4002 Legion Drive, Hamburg, NY 14075.

Date Revoked: June 18, 2009.

Reason: Failed to maintain a valid bond.

License Number: 002923NF.

Name: Caribtran, Inc. dba ABC International Freight dba Sola Ocean Transport.

Address: 12600 NW. 107th Ave., Miami, FL 33178.

Date Revoked: June 15, 2009.

Reason: Failed to maintain valid bonds.

License Number: 013300N.

Name: Commercial Maritime Services, Inc.

Address: 1501 N. Norwood Dr., Ste. 122, Hurst, TX 76054.

Date Revoked: June 25, 2009.

Reason: Surrendered license voluntarily.

License Number: 016395N.

Name: Fondocean Express (HK) Limited.

Address: 59 Tai Yip Street, I/F Sunshine Cargo Centre, Kowloon Bay, Hong Kong, China.

Date Revoked: June 25, 2009.

Reason: Surrendered license voluntarily.

License Number: 020429NF.

Name: Marserve, Inc.

Address: 15421 Vantage Parkway West, #116, Houston, TX 77032.

Date Revoked: May 4, 2009.

Reason: Surrendered license voluntarily.

License Number: 020633N.

Name: M&P Multi-Services Corp dba M&P Multi-Services.

Address: 6153 Johnson Street, Hollywood, FL 33024

Date Revoked: June 20, 2009.

Reason: Failed to maintain a valid bond.

License Number: 009796N.

Name: OB Express Company dba BLN Express Company.

Address: 13048 Bach Way, Cerritos, CA 90703.

Date Revoked: June 21, 2009.

Reason: Failed to maintain a valid bond.

License Number: 003490N.

Name: Rose International, Inc. dba Rose Maritime Container Line.

Address: 410 Ogden Ave., PHD, Jersey City, NJ 07307.

Date Revoked: June 13, 2009.

Reason: Failed to maintain a valid bond.

License Number: 018721N.

Name: Starbridge U.S.A. Corporation dba Worldwide Shipping Agency.

Address: 1800 N. Andrews Ave., Ft. Lauderdale, FL 33311.

Date Revoked: June 17, 2009.

Reason: Failed to maintain a valid bond.

License Number: 002251F.

Name: Thomas Tello & Co., Inc.

Address: 5900 S. Eastern Ave., Ste. 125, City of Commerce, CA 90040.

Date Revoked: June 10, 2009.

Reason: Surrendered license voluntarily.

License Number: 004091F.

Name: Metra Corporation.

Address: 1637 Holloway Rd., Holland, OH 43528

Date Revoked: June 21, 2009.

Reason: Failed to maintain a valid bond.

License Number: 019565N.

Name: The Padded Wagon, Inc.

Address: 163 Exterior St., Bronx, NY 10451.

Date Revoked: June 19, 2009.

Reason: Failed to maintain a valid bond.

License Number: 019465N.

Name: Ultimate Logistics Enterprise, Inc.

Address: 9041 Pittsburgh Ave., Rancho Cucamonga, CA 91730.

Date Revoked: June 18, 2009.

Reason: Failed to maintain valid bond.

License Number: 016852N.

Name: Worldlink Logix Service, Inc.

Address: 33 Wood Ave., Ste. 600, Iselin, NJ 08830.

Date Revoked: June 14, 2009.

Reason: Failed to maintain a valid bond.

Sandra L. Kusumoto,
Director, Bureau of Certification and Licensing.

[FR Doc. E9-17417 Filed 7-21-09; 8:45 am]

BILLING CODE 6730-01-P